FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 009548-054.

Title: United States Atlantic and Gulf Ports/Eastern Mediterranean and North African Freight Conference.

Parties: Farrell Lines, Inc., Waterman Steamship Corporation, Turkon Container Transport & Shipping Inc.

Synopsis: The proposed amendment deletes provisions which restrict the prerogative of a member, or a member's subsidiary, to set its own rates, preclude an agent from representing non-conference carriers operating in the Agreement trade, and restrict a member's ability to charter space aboard vessels it operates in the trade.

Agreement No.: 011284-036.

Title: Ocean Carrier Equipment Management Association.

Parties: A.P. Moller-Maersk Sealand, APL Co. PTE Ltd, Hapag-Lloyd Container Linie Gmbh, Mitsui O.S.K. Lines, Ltd., Nippon Yusen Kaisha, Orient Overseas Container Line (UK) Ltd, Orient Overseas Container line, Inc., P&O Nedlloyd B.V., P&O Nedlloyd Limited.

Synopsis: The modification makes clear that the parties to the agreement are not authorized to negotiate, agree upon, or jointly contract for rates or compensation paid to motor carriers or port truck drivers.

Agreement No.: 011346-010.

Title: Israel Trade Conference Agreement.

Parties: Farrell Lines, Inc., Zim Israel Navigation Co., Ltd.

Synopsis: The proposed amendment deletes provisions which restrict the prerogative of a member, or a member's subsidiary, to set its own rates and which preclude an agent from representing non-conference carriers operating in the Agreement trade.

Agreement No.: 011632-002.

Title: Turkey/United States Rate Agreement.

Parties: Farrell Lines, Inc., Turkon Container Transport & Shipping Inc.

Synopsis: The proposed amendment deletes a provision which requires a member to quote and collect payment for the carriage of freight strictly in accordance with Agreement tariffs and services contracts.

Agreement No.: 011657-004.

Title: Zim/Italia Space Charter Agreement.

Parties: Zim Israel Navigation Co., Ltd. Italia di Navigazione, S.p.A.

Synopsis: The parties are amending their agreement to reflect an increase in service frequency and to adjust space allocations.

Agreement No.: 011671-002.

Title: Italia/Contship Space Charter and Sailing Agreement.

Parties: Italia di Navigazione, S.p.A., Contship Containerlines Limited.

Synopsis: The parties are amending their agreement to increase the number of vessels that they will use under the agreement.

Agreement No.: 011717.

Title: Maersk Sealand/Cagema Space Charter Agreement.

Parties: Cagema Limited, A.P. Moller-Maersk Sealand.

Synopsis: The proposed agreement authorizes the parties to contribute one vessel each and to charter or exchange space on each other's vessel operating in the trade between ports in Florida and the Caribbean.

Dated: July 21, 2000.
By Order of the Federal Maritime Commission.
Bryant L. VanBrakle,
Secretary.

[FR Doc. 00-18933 Filed 7-25-00; 8:45 am]

BILLING CODE 6730-01-P